NUCLEAR REGULATORY COMMISSION

[Docket No. 50-146]

Saxton Nuclear Experimental Corporation and GPU Nuclear Corporation; Saxton Nuclear Experimental Facility Environmental Assessment and Finding of No Significant Impact

The U.S. Nuclear Regulatory Commission (NRC) is considering issuance of an amendment to Amended Facility License No. DPR-4 issued to GPU Nuclear Corporation and Saxton Nuclear Experimental Corporation (the licensees), for possession of the Saxton Nuclear Experimental Facility (SNEF), located in Saxton, Bedford County, Pennsylvania.

Environmental Assessment

Identification of the Proposed Action

The proposed action would revise Amended Facility License No. DPR-4 to change the legal name GPU Nuclear Corporation to GPU Nuclear, Inc. wherever it appears in the license to reflect the change in name of the corporation.

The proposed action is in accordance with the licensees' application for amendment dated November 30, 2000, as supplemented by letter dated January 18, 2001.

The Need for the Proposed Action

The proposed action is needed to conform the license to reflect the change in the legal name of GPU Nuclear Corporation to GPU Nuclear, Inc.

Environmental Impacts of the Proposed Action

The NRC has completed its evaluation of the proposed action and concludes that the proposed amendment to the SNEF amended facility license to reflect the change in the legal name of GPU Nuclear Corporation to GPU Nuclear, Inc. will have no impact on the continued safe possession of the facility. Also, the change does not alter the corporate existence of the company, or its obligations, responsibilities or liabilities as related to its responsibility as a licensee for the SNEF. All legal characteristics, other than the legal name of the company will remain the same. An identical change was previously approved by the NRC for the Oyster Creek Nuclear Generating Station (Amendment No. 194 issued on January 14, 1998) and for the Three Mile Island Nuclear Generating Station, Unit-1 (Amendment No. 207 issued on April 24, 1998).

Therefore, the proposed action will not increase the probability or consequences of accidents, no changes are being made in the types of any effluents that may be released off site, and there is no significant increase in occupational or public radiation exposure. Therefore, there are no significant radiological environmental impacts associated with the proposed action.

With regard to potential non-radiological impacts, the proposed action does not involve any historic sites. It does not affect non-radiological plant effluents and has no other environmental impact. Therefore, there are no significant non-radiological environmental impacts associated with the proposed action.

Accordingly, the NRC concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

This action involves an administrative amendment that does not involve the use of irreversible or irretrievable resources. Therefore, there is no alternative use of resources to be considered.

Agencies and Persons Consulted

In accordance with its stated policy, on January 4, 2001, the staff consulted with the Pennsylvania State official, M. Murphy of the Bureau of Radiation Protection, Department of Environmental Protection, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated November 30, 2000, as supplemented by letter dated January 18, 2001, which are available for public inspection, and/or copied for a fee, at the U.S. Nuclear Regulatory Commission's Public Document Room, located at One White Flint North, 11555 Rockville Pike (first floor), Rockville, Maryland. Publicly available records will be accessible electronically from the ADAMS Public Library component on the NRC Web site, http://www.nrc.gov (the Electronic Reading Room).

Dated at Rockville, Maryland, this 31st day of January, 2001.
For the Nuclear Regulatory Commission.
Ledyard B. Marsh,
Chief, Events Assessment, Generic Communications and Non-Power Reactors Branch, Division of Regulatory Improvement Programs, Office of Nuclear Reactor Regulation.

[FR Doc. 01-5744 Filed 3-7-01; 8:45 am]

BILLING CODE 7590-01-P